DEPARTMENT OF JUSTICE

Antitrust Division

Notice Pursuant to the National Cooperative Research and Production Act of 1993—Cooperative Research Group on Clean Diesel V

Notice is hereby given that, on January 10, 2008, pursuant to section 6(a) of the national Cooperative Research and Production Act of 1993, 15 U.S.C. 4301 et seq. (“the Act”), Southwest Research Institute—Cooperative Research Group on Clean Diesel (“Clean Diesel V”) has filed written notifications simultaneously with the Attorney General and the Federal Trade Commission disclosing (1) the identifies of the parties to the venture and (2) the nature and objectives of the venture. The notifications were filed for the purpose of involving the Act's provisions limiting the recovery of antitrust plaintiffs to actual damages under specified circumstances.

Pursuant to section 6(b) of the Act, the identities of the parties to the venture are: DAF Trucks, N.V., Einhoven, the Netherlands; Detroit Diesel Corporation, Detroit, MI; Eaton Corporation, Southfield, MI; Emitec, Lohmar, Germany; Exxon Mobil Corporation, Paulsboro, NJ; HILITE International, Cleveland, OH; Hitachi Automotive Systems, Advanced Technical Center, Ibaragi Prefecture, Japan; Jacobs Vehicle Systems, Bloomfield, CT; Komatsu/IPA, Tochigi-Ken, Japan; MAN Nutsfahrzeuge Aktiengesellschaft Geschaftseinheit Motoren, Nurnberg, Germany; NGK Insulators, Nagoya City, Japan; Usui Kokusai Sangyo Kaisha, Ltd., Shizuoka-ken, Japan; Valeo, Cedex, France and Woodward Governor Company, Loveland, CO.

The general area of planned activities of Clean diesel V is to achieve NOX and HC level of 0.2g/hp-hr, PM level of 0.01g/hp-hr and NMHC of 0.14 g/hp-hr over the U.S. transient heavy-duty test cycle and develop pre-competitive diesel engine technology through the investigation of the following technologies: Advanced low temperature combustion, advanced exhaust aftertreatment technology development, advanced fuels and lubricant formulations and advanced system controls. The goals are to maintain the fuel economy, CO2 emissions, and specific engine power output comparable to the best 2007 engines. European and Japanese test cycles, as well as off-highway and light-duty test cycles will be included in evaluation of the developed technologies.

Membership in this research group remains open, and the participants intend to file additional written notification disclosing all changes in membership or planned activities.

Patricia A. Brink,
Deputy Director of Operations, Antitrust Division.

[FR Doc. 08-806 Filed 2-22-08; 8:45 am]

BILLING CODE 4410-11-M